DEPARTMENT OF THE INTERIOR

National Park Service

[2330-RYY]

Proposed Information Collection; National Park Service Visitor Survey Card

AGENCY: National Park Service, Interior.

ACTION: Notice; request for comments.

SUMMARY: Under the provisions of the Paperwork Reduction Act of 1995 and 5 CFR part 1320, Reporting and Record Keeping Requirements, the National Park Service (NPS) invites public comments on renewal of an information collection approved under OMB Control Number 1024-0216.

DATES: Public comments on this Information Collection Request (ICR) will be accepted on or before December 29, 2010.

ADDRESSES: Please send your comments and suggestions on this ICR to the Desk Officer for the Department of the Interior at OMB-OIRA at (202) 395-5806 (fax) or OIRA_DOCKET@OMB.eop.gov (e-mail). Please also send a copy of your comments on the ICR to Dr. Bruce Peacock, NPS Social Science Division, 1201 Oakridge Drive, Fort Collins, CO 80525; or at Bruce_Peacock@nps.gov (e-mail).

FOR FURTHER INFORMATION CONTACT: Jennifer Hoger-Russell, Park Studies Unit, College of Natural Resources, University of Idaho, P.O. Box 441139, Moscow, ID 83844-1139; Phone: (208) 885-4806; Fax: (208) 885-4216; jhoger@uidaho.edu (e-mail).

SUPPLEMENTARY INFORMATION:

I. Abstract

The National Park Service Act of 1916, 38 Stat 535, 16 U.S.C. 1, et seq., requires that the NPS preserve national parks for the use and enjoyment of present and future generations. At the field level, this means resource preservation, public education, facility maintenance and operation, and physical developments as are necessary for public use, health, and safety. Other Federal mandates (National Environmental Policy Act and NPS Management Policies) require visitor use data in the impact assessment of development on users and resources as part of each park's general management plan. The Government Performance and Results Act (GPRA) of 1993 (Pub. L. 103-62) requires that the NPS develop goals to improve program effectiveness and public accountability and to measure performance related to these goals. The Visitor Survey Card (VSC) project measures performance toward those goals through a short visitor survey card. The project is an element of the NPS Strategic Plan and the Department of the Interior (DOI) Strategic Plan.

The NPS has used the VSC to conduct surveys at approximately 330 National Park Service units annually since 1998. The purpose of the VSC is to measure visitors' opinions about park facilities, services, and recreational opportunities in each park unit and System-wide. This effort is required by GPRA and other NPS and DOI strategic planning efforts. Data from the proposed survey is needed to assess performance regarding NPS GPRA goals IIa1A and IIb1.

In addition, the survey collects data to support the DOI Strategic Plan goal on visitor satisfaction with the value for entrance fees paid to access public lands managed by the DOI. NPS performance on all goals measured in this study will contribute to DOI Department-wide performance reports. Results of the VSC will also be used by park managers to improve visitor services at the approximately 330 units of the National Park System where the survey is administered.

The VSC is a component of the Visitor Services Project, which is funded by the NPS through a cooperative agreement with the Park Studies Unit at the University of Idaho, and has been in use since 1998.

II. Data

OMB Number: 1024-0216.

Title: National Park Service Visitor Survey Card.

Type of Request: This is a renewal of a currently approved collection.

Respondent Obligation: Voluntary.

Frequency of Collection: One-time per respondent.

Description of respondents: Visitors to approximately 330 NPS units.

Estimated average number of respondents: 132,000 visitors who accept the survey card (92,400 non-respondents and 39,600 respondents) and 1,188 visitors who refuse to take the survey card but are willing to answer the two demographic questions and the overall satisfaction question.

Estimated average burden hours per response: 1 minute for non-respondents, 3 minutes for respondents, and 2 minutes for visitors who refuse to take the survey card but are willing to answer the two demographic questions and the overall satisfaction question.

Estimated annual reporting burden: 3,540 hours.

III. Request for Comments

We are inviting comments concerning this ICR on: (a) Whether the proposed collection of information is necessary for the agency to perform its duties, including whether the information is useful; (b) the accuracy of the agency's estimate of the burden of the proposed collection of information; (c) ways to enhance the quality, usefulness, and clarity of the information to be collected; and (d) ways to minimize the burden on the respondents, including the use of automated collection techniques or other forms of information technology.

Comments that you submit in response to this notice are a matter of public record. Before including your address, phone number, e-mail address or other personal identifying information in your comment, you should be aware that your entire comment including your personal identifying information, may be made publicly available at any time. While you can ask us in your comment to withhold your personal identifying information from public review, we cannot guarantee that we will be able to do so.

Dated: November 23, 2010.
Robert Gordon,
Information Collection Clearance Officer, National Park Service.

[FR Doc. 2010-29974 Filed 11-26-10; 8:45 am]

BILLING CODE 4312-52-P